DEPARTMENT OF HOUSING AND URBAN DEVELOPMENT

[Docket No. FR-4837-D-06]

Delegations of Authority for the Office of Housing-Federal Housing Administration, Deputy Assistant Secretary for Finance and Budget

AGENCY: Office of the Assistant Secretary for Housing-Federal Housing Commissioner, HUD.

ACTION: Notice of revocation and redelegation of authority to the Office of Finance and Budget.

SUMMARY: Published elsewhere in today's Federal Register is a revised delegation of authority for Housing Programs from the Secretary of HUD to the Assistant Secretary for Housing-Federal Housing Commissioner and the General Deputy Assistant Secretary for Housing-Deputy Federal Housing Commissioner. This notice advises the public of redelegation of authority from the Assistant Secretary and General Deputy Assistant Secretary to the Deputy Assistant Secretary for Finance and Budget.

EFFECTIVE DATE: August 11, 2003.

FOR FURTHER INFORMATION CONTACT: Sandy Allison, Associate Deputy Assistant Secretary for Finance and Budget, Office of Housing, Department of Housing and Urban Development, Room 9110, Washington, DC 20410-8000, telephone (202) 708-2601. (This is not a toll-free number.) Persons with hearing or speech impairments may call HUD's toll-free Federal Information Relay at (800) 877-8339.

SUPPLEMENTARY INFORMATION:

Section I. Deputy Assistant Secretary for Finance and Budget: Organization

On July 19, 2002, HUD established a new position within the Office of Housing, which includes the Federal Housing Administration (FHA). The new position is the Deputy Assistant Secretary for Finance and Budget (FAB). Under the new organization, four offices report to the FAB Deputy Assistant Secretary. These are the (1) Office of Evaluation; (2) Office of Budget and Field Resources; (3) Office of Asset Sales; and (4) Office of the Housing-FHA Comptroller. The following is a brief summary of each of these offices.

A. Office of Evaluation: The Office of Evaluation assesses the financial impact of new or revised HUD/FHA programs and policies, new or proposed legislation, and/or new or proposed rules and regulations of the Office of Management and Budget (OMB), the General Accounting Office (GAO), or the Department of Treasury. Based on these assessments, the office develops recommendations, alternatives, and various scenarios used by managers to determine appropriate actions. The Office is responsible for actuarial analyses and cash flow projections of the FHA insurance funds and evaluates relationships between current market conditions and FHA program goals and objectives. The Office uses both internal and external resources to estimate the financial impact of policy changes or external factors (such as regional recessions or natural disasters) on FHA programs. The following additional functions are conducted by the Office of Evaluation: monitoring daily cash flows to make sound investments; conducting quarterly analyses of economic developments; and on-going actuarial analyses of FHA's insurance funds.

B. The Office of Budget and Field Resources: The Office of Budget and Field Resources is responsible for the formulation, presentation, and execution of the Office of Housing's program and administrative budgets. This includes fund assignments and control, financial resource management, coordination of financial resources in support of Field operations, and budget analysis and reporting. The Office is responsible for analyzing and evaluating the financial and budgetary impact of new or revised Housing programs and policies, proposed legislation, and new or revised OMB, GAO, or Treasury guidance. The responsibilities and duties of personnel within the Office of Budget and Field Resources pertain to internal HUD matters, do not require rendering decisions that bind HUD in relation to external clients and customers, and therefore, do not require delegations of authority.

C. Office of Asset Sales: The Office of Asset Sales oversees the disposition of mortgage notes acquired by Housing upon a default by the mortgagor and assignment of the note to FHA in return for the payment of a claim. The Office is responsible for the sale of single family, multifamily, and hospital notes in the manner most advantageous to the Government. The Office develops alternative disposition methods that will reduce the acquisition and holding costs of these assets while increasing recovery upon sale.

D. Office of the Housing-FHA Comptroller: The Office of the Housing-FHA Comptroller (Comptroller) is a Headquarters operation. The Office contains one field component, the Financial Operations Center, located in Albany, New York, that reports to one of the three major Washington, DC offices within the Office of the Housing-FHA Comptroller. A description of the three major offices follows:

(1) The Office of Financial Services: The Office of Financial Services is comprised of three Headquarters Divisions, and one field component, the Financial Operations Center, which is located in Albany, New York. The Office provides the policy direction, review, and coordination required to collect insurance premiums, to provide the financial services required to support FHA's multibillion dollar Single Family, Multifamily, and Title I insurance portfolios, and to provide the financial support necessary to manage FHA's asset management and disposition programs. The Office collects and maintains financial data necessary to generate accurate accounting entries to the General and Subsidiary ledgers and FHA's financial statements. The Office supports the systems and staff needed to maintain the insurance operations for FHA programs. The Office provides policy guidance and oversight for FHA's debt management and due diligence activities in the Financial Operations Center and supports FHA's asset sales programs. A summary of each division and the Financial Operations Center follows:

(a) The Single Family Insurance Operations Division. This Division is responsible for performing the accounting functions and providing financial management services to FHA-approved lenders who originate and/or service FHA Single Family insured mortgages. The Division maintains the national portfolio that consists of 13 million insurance records of active and terminated Single Family FHA-insured loans. The Division collects the mortgage insurance premiums and processes refunds of premium overpayments to lenders and homeowners.

(b) The Single Family Post Insurance Division. This Division is responsible for providing accounting and processing functions necessary to support the FHA single family asset acquisition, management, and disposition operations. The Division directs and coordinates all operating requirements, systems development, and reporting functions requirements for its areas of responsibility. The Division provides servicing support, claims processing and asset disposition processing. It also provides contractor oversight as appropriate.

(c) The Multifamily Financial Operations Division. This Division is responsible for performing the accounting and financial management services necessary for the servicing of all multifamily, insured mortgages in the FHA portfolio and the support of the approved lenders who hold FHA-insured mortgages. The division is also responsible for the servicing of HUD-Held Multifamily mortgages and the payment of claims for Multifamily defaulted mortgages. These responsibilities include collection of insurance premiums, management of escrow accounts, payments of preservation and protection expenses, and recording of mortgage satisfactions.

(d) The Financial Operations Center. The Financial Operations Center (or Center) is responsible for providing policy guidance, system support and general oversight of FHA debt management, collection and due diligence/asset liquidation activities for FHA Assets not elsewhere administered. The Center is also responsible for all financial duties relating to the HUD-owned Title I Insurance portfolio such as establishing repayment plans, administering the Treasury offset program, and accepting compromise plans or write-offs.

(2) The Office of Financial Analysis and Reporting: The Office of Financial Analysis and Reporting is comprised of three Headquarters Divisions. The Office is responsible for classifying, summarizing, analyzing, and reporting the financial, accounting and budgetary activities and transactions for FHA/Housing activities as required for a wholly-owned government corporation, subject to the provisions of the Government Corporation Control Act. The Office also evaluates the impact of new or proposed OMB, GAO, or Treasury rules and regulations, develops financial performance measures, and oversees cash management and investment. Primary functions include developing and implementing accounting policies and procedures based on Federal Basis Generally Accepted Accounting Principles (FGAAP) requirements and directives and regulations from the Office of Management and Budget, the Treasury, Congress and the Administration; reconciling actual cash, accounting and budgetary events to independent source documents to assure the Department that the general ledger accounts are in order and the budgetary statements accurately represent account balances; participating with auditors, both internal and external, in the planning and conduct of accounting and financial management audits, investigations, and reviews; monitoring daily cash flows; making sound investments; and preparing the FHA Annual Report. A description of the three divisions follows.

(a) Financial Analysis and Controls Division. This Division is responsible for developing and implementing accounting and budgetary reporting policy. It is responsible for ensuring that all requirements, internal and external, relating to financial reporting and accounting are followed in FHA's accounting practices and that any changes to such requirements are communicated to appropriate staff.

(b). General Ledger Division. This Division is responsible for the preparation of all the cost accounting, Credit Reform accounting, FGAAP accounting, and budgetary accounting entries that update the General and Subsidiary ledgers of FHA. This includes all daily transactions and FGAAP entries at the end of each accounting period, as required, together with special entries as required by Credit Reform and budgetary accounting.

(c) The Financial Reporting Division. This Division monitors and prepares Housing's official responses to audit issues. This involves both program and financial audits performed by both internal and external organizations.

(3) Office of Systems and Technology: The Office of Systems and Technology coordinates the development and maintenance of integrated financial and management information systems necessary for accounting and management of the Housing and FHA programs.

Section II. Redelegations to the Office of the Deputy Assistant Secretary for Finance and Budget

The Assistant Secretary redelegates program authority in broad terms to the Deputy Assistant Secretary for Finance and Budget. In addition, the Housing-FHA Comptroller, who reports to the Deputy Assistant Secretary, is redelegated concurrent authority, with that of the Deputy Assistant Secretary, to oversee the FHA financial operations and other Office of Housing programs. The general functions and a brief description of the authority delegated are as follows:

A. General Authority: Authority is redelegated to the (1) Deputy Assistant Secretary to sign any and all documents necessary to carry out the business of the Office of Finance and Budget, including oversight of FHA financial operations, and (2) Housing-FHA Comptroller to sign any and all documents necessary to carry out the oversight of FHA financial operations. In concert with the specific authorities redelegated to each of them, the Deputy Assistant Secretary and the Housing-FHA Comptroller, in considering a transaction, are also redelegated authority to waive any directives not mandated by statute or regulation, for good cause and with a written justification.

B. Oversight of Financial Operations: The Deputy Assistant Secretary for Finance and Budget is delegated such authority as is necessary to oversee the financial management and operations of Housing programs. The FHA Comptroller, who reports to the Deputy Assistant Secretary, is responsible for overseeing the financial operations of the Federal Housing Administration.

C. Investment of Surplus Funds: The Deputy Assistant Secretary is redelegated authority to invest FHA funds in certain specified types of accounts, e.g., U.S. Treasury securities.

D. Borrowing From U.S. Treasury: The Deputy Assistant Secretary is redelegated authority to borrow from the U.S. Treasury such funds as necessary to maintain a positive cash flow in the various FHA insurance funds.

E. Administration of the FHA Title I Loans: The Deputy Assistant Secretary is redelegated the authority to perform such duties as are necessary to carry out the financial functions of the FHA Title I Program.

F. Administration of the FHA Title II Insured Loans: The Deputy Assistant Secretary is redelegated the authority to perform such actions as may be necessary to carry out the financial functions of all FHA Title II insured loans.

G. Payment of FHA Claims: The Deputy Assistant Secretary is redelegated such authority to perform such actions as may be necessary to make FHA claim payments. These duties include but are not limited to determining the appropriate amount of benefits to be paid, making appropriate certifications for payments issued in debentures and/or cash, extending requisite time periods for a lender's submission of claim documentation, and collecting, through administrative offset, any indebtedness due HUD.

H. Servicing of FHA Insured Loans: The Deputy Assistant Secretary is redelegated the authority to perform such duties as necessary to carry out the financial responsibilities for HUD-held notes and properties including but not limited to collecting mortgage payments, ensuring the protection and preservation of collateral, establishing and directing the use of funds in escrow accounts, and executing appropriate legal documents upon payment-in-full of a mortgage.

I. Liaison with U.S. Treasury Department: The Deputy Assistant Secretary is redelegated such authority as is necessary to process and effect such transactions with the U.S. Treasury as may be required in the normal operation of FHA operations.

J. Sale of FHA Assets: The Deputy Assistant Secretary is redelegated such authority as necessary to sell Secretary-held mortgages.

K. Management of HUD-held Mortgages, Notes and HUD-Owned Properties: The Deputy Assistant Secretary is redelegated such authority as necessary to make disbursements on HUD-owned or managed properties for the payment of property related expenses, including property taxes, utility bills, property management fees, etc.

Section III. Further Redelegations

The authority redelegated by the Assistant Secretary for Housing-Federal Housing Commissioner and the General Deputy Assistant Secretary-Deputy Federal Housing Commissioner to the Deputy Assistant Secretary for Finance and Budget may be redelegated by memorandum. A copy of the redelegation will be maintained by the employee receiving the delegation and by the Deputy Assistant Secretary and available for public inspection. The Housing-FHA Comptroller may not redelegate the authority redelegated herein.

Section IV. Revocation of Delegations

The Assistant Secretary for Housing-Federal Housing Commissioner or the General Deputy Assistant Secretary for Housing-Deputy Federal Housing Commissioner may, at any time, revoke any of the authority redelegated herein. Notice of any revocation will be published in the Federal Register. This redelegation of authority supersedes and/or revokes all prior redelegations of authority to staff in the Office of the Housing-FHA Comptroller.

Authority: Section 7(d), Department of Housing and Urban Development Act, 42 U.S.C. 3535(d).

Dated: August 11, 2003.
John C. Weicher,
Assistant Secretary for Housing-Federal Housing Commissioner.

[FR Doc. 03-21244 Filed 8-19-03; 8:45 am]

BILLING CODE 4210-27-P